SMALL BUSINESS ADMINISTRATION

[Declaration of Disaster #3434]

State of Vermont

As a result of the President's major disaster declaration on July 12, 2002, I find that Caledonia, Franklin, Lamoille and Orleans Counties in the State of Vermont constitute a disaster area due to damages caused by severe storms and flooding occurring on June 5, 2002 through June 13, 2002. Applications for loans for physical damage as a result of this disaster may be filed until the close of business on September 10, 2002 and for economic injury until the close of business on April 10, 2003 at the address listed below or other locally announced locations:

U.S. Small Business Administration, Disaster Area 1 Office, 360 Rainbow Blvd., South 3rd Fl., Niagara Falls, NY 14303-1192.

In addition, applications for economic injury loans from small businesses located in the following contiguous counties may be filed until the specified date at the above location: Chittenden, Essex, Grand Isle, Orange and Washington Counties in the State of Vermont; and Grafton County in the State of New Hampshire.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury: Businesses and small agricultural cooperatives without credit available elsewhere | 3.500

The number assigned to this disaster for physical damage is 343411. For economic injury the number is 9Q5700 for Vermont; and 9Q5800 for New Hampshire.

(Catalog of Federal Domestic Assistance Program Nos. 59002 and 59008).
Dated: July 16, 2002.
Herbert L. Mitchell,
Associate Administrator, for Disaster Assistance.

[FR Doc. 02-18517 Filed 7-22-02; 8:45 am]

BILLING CODE 8025-01-P